DEPARTMENT OF LABOR

Employment and Training Administration

[TA-W-57,110]

Compeq International, Salt Lake City, UT; Notice of Termination of Investigation

Pursuant to Section 221 of the Trade Act of 1974, an investigation was initiated on May 4, 2005 in response to a petition filed by a company official on behalf of workers of Compeq International, Salt Lake City, Utah.

The petitioner has requested that the petition be withdrawn. Consequently, further investigation in this case would serve no purpose, and the investigation has been terminated.

Signed in Washington, DC this 11th day of May, 2005.
Linda G. Poole,
Certifying Officer, Division of Trade Adjustment Assistance.

[FR Doc. E5-2640 Filed 5-24-05; 8:45 am]

BILLING CODE 4510-30-P